DEPARTMENT OF AGRICULTURE

Rural Utilities Service

Associated Electric Cooperative Incorporated: Notice of Availability of an Environmental Assessment

AGENCY: Rural Utilities Service, USDA.

ACTION: Notice of availability of an Environmental Assessment for public review.

SUMMARY: The Rural Utilities Service, an Agency delivering the U.S. Department of Agriculture's Rural Development Utilities Programs, hereinafter referred to as Rural Development and/or Agency, has prepared an Environmental Assessment (EA) to meet its responsibilities under the National Environmental Policy Act (NEPA) and 7 CFR 1794 related to possible financial assistance to Associated Electric Cooperative Incorporated (AECI) for the construction of a new 540-megawatt (MW) gas-fired combustion combined-cycle generation unit at the existing Chouteau Power Plant in Mayes County, Oklahoma. The proposed new unit is needed to provide additional electric generating capacity that would allow AECI to meet its projected electrical peaking demand in 2011-2016. AECI is also proposing to construct a new substation approximately two miles east of the existing plant, a 161-kilovolt (kV) transmission line from the existing plant to the new substation, and a single circuit 345-kV line from the new substation to the nearby Grand River Dam Authority (GRDA) Coal-Fired Power Plant I, Mayes County, Oklahoma. The proposed new transmission facilities are needed to provide an outlet for the additional electric power that would be generated at the Chouteau Power Plant as a result of the installation of the proposed new combustion turbine (CT). AECI is requesting financial assistance from the Agency for the proposed action.

DATES: Written comments on this Notice must be received on or before April 13, 2009.

FOR FURTHER INFORMATION CONTACT: To obtain copies of the EA or for further information, contact: Stephanie Strength, Environmental Protection Specialist, USDA, Rural Development, Utilities Programs, 1400 Independence Avenue, SW., Room 2244, Stop 1571, Washington, DC 20250-1571, or e-mail stephanie.strength@wdc.usda.gov.

A copy of the EA may be viewed online at the Agency's Web site: http://www.usda.gov/rus/water/ees/ea.htm and at AECI's headquarters office located at 211 South Golden, Springfield, Missouri 65801-4775 and at the: Pryor Public Library, 505 E Graham, Pryor, OK 74361, (918) 825-0777. Comments may be submitted to Ms. Strength at the address provided in this Notice.

SUPPLEMENTARY INFORMATION: Associated Electric Cooperative, Inc. proposes to construct a new 540-MW gas-fired combustion combined-cycle generation unit at the existing Chouteau Power Plant in Mayes County, Oklahoma with an in-service date of early 2011. The existing plant includes a 522 MW combined cycle generation unit. The proposed 540 MW generating plant will be connected to a new 161/345-kV substation that will serve both the existing and proposed generating facilities. This substation will be located approximately two miles east of the Chouteau Power Plant on 16.7 acres. A single circuit 161-kV transmission line would be constructed from the existing Chouteau Power Plant to the new 345/161-kV substation and a single circuit 345-kV line will be constructed from the new substation to the existing Grand River Dam Authority (GRDA) Coal-Fired Power Plant.

The proposed CTs would employ an industrial frame advanced technology CT equipped with dry low-nitrogen oxide combustors. The CT would operate on natural gas as a fuel source. The construction of the proposal is tentatively scheduled to begin in 2009 and the estimated duration of construction would be 2 years.

A Notice of Intent to Prepare an EA and Hold a Scoping Meeting was published in the Federal Register at 73FR51439, on September 3, 2008, The Paper on September 8, 2008, and The Daily Times on September 7, 2008. A public meeting was held on September 16, 2008, at the Mid America Expo Center, Mid America Industrial Park in Pryor, Oklahoma 74361. A summary of public comments can be found at the Agency Web site listed in this Notice.

As part of its broad environmental review process, the Agency must take into account the effect of the proposal on historic properties in accordance with section 106 of the National Historic Preservation Act and its implementing regulation, “Protection of Historic Properties” (36 CFR part 800). Pursuant to 36 CFR 800.2(d)(3), the Agency is using its procedures for public involvement under NEPA to meet its responsibilities to solicit and consider the views of the public during section 106 review. Accordingly, comments submitted in response to scoping will inform Agency decisionmaking in section 106 review. Any party wishing to participate more directly with the Agency as a “consulting party” in section 106 review may submit a written request to do so to the Agency contact provided in this notice.

Alternatives considered by Rural Development and AECI included for the CTs were (a) no action, (b) alternate sources of power, (c) load management, (d) renewable energy sources, (e) non-renewable energy sources, and (f) alternate sites. The alternatives considered for the transmission facilities were (a) no action and (b) alternate routes. An environmental report that describes the proposal in detail and discusses its anticipated environmental impacts has been prepared by AECI. Rural Development has reviewed and accepted the document as its EA of the proposal. The EA is available for public review at the addresses provided in this Notice.

Questions and comments should be sent to Rural Development at the mailing or e-mail addresses provided in this Notice. Rural Development should receive comments on the EA in writing by April 13, 2009 to ensure that they are considered in its environmental impact determination.

Should Rural Development determine, based on the EA of the proposal, that the impacts of the construction and operation of the proposal would not have a significant environmental impact, it will prepare a Finding of No Significant Impact. Public notification of a Finding of No Significant Impact would be published in the Federal Register and in newspapers with circulation in the proposal area.

Any final action by Rural Development related to the proposal will be subject to, and contingent upon, compliance with all relevant Federal, state and local environmental laws and regulations, and completion of the environmental review requirements as prescribed in Rural Development's Environmental Policies and Procedures (7 CFR part 1794).

Dated: March 6, 2009.
Mark S. Plank,
Director, Engineering and Environmental Staff, USDA/Rural Development/Utilities Programs.

[FR Doc. E9-5375 Filed 3-11-09; 8:45 am]

BILLING CODE 3410-15-P